DEPARTMENT OF COMMERCE

National Oceanic and Atmospheric Administration

Agency Information Collection Activities; Submission to the Office of Management and Budget (OMB) for Review and Approval; Comment Request; Greater Atlantic Region Logbook Family of Forms

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 22, 2021.

ADDRESSES: Interested persons are invited to submit written comments to Adrienne Thomas, NOAA PRA Officer, at Adrienne.thomas@noaa.gov. Please reference OMB Control Number 0648-0212 in the subject line of your comments. Do not submit Confidential Business Information or otherwise sensitive or protected information.

FOR FURTHER INFORMATION CONTACT: Requests for additional information or copies of the information collection instrument and instructions should be directed to James StCyr, Greater Atlantic Regional Office, Analysis & Program Support Division, Data Processing & Quality Branch, 55 Great Republic Dr, Gloucester, MA 01930, (978) 281-9369 or james.stcyr@noaa.gov.

SUPPLEMENTARY INFORMATION

I. Abstract

This request is for the revision of a current information collection. Under the provisions of the Magnuson-Stevens Fishery Conservation and Management Act (16 U.S.C. 1801 et seq.), the National Oceanic and Atmospheric Administration's (NOAA) National Marine Fisheries Service (NMFS) is responsible for management of the nation's marine fisheries. Fishing vessels permitted to participate in federally permitted fisheries in the Greater Atlantic Region are required to submit logbooks containing catch and effort information about their fishing trips. Participants in the tilefish and open access herring fisheries are also required to make reports on the catch, which are currently submitted via an Interactive Voice Response (IVR) system. In addition, vessels fishing under the Exempted Fishing Permit (EFP) or Mid-Atlantic Research Set-Aside (RSA) programs are required to submit research catch information through the IVR system. The IVR system will be taken offline in 2021 and reports will need to be submitted using our web based system, Fish Online. The information submitted is used by several offices of the NOAA Fisheries Service, the U.S. Coast Guard, the Councils, and state fishery enforcement agencies under contract to the NOAA Fisheries Service in order to develop, implement, and monitor fishery management strategies. This action seeks to revise Paperwork Reduction Act clearance for the impacted requirements.

II. Method of Collection

Information is collected through an Interactive Voice Response (IVR) system.

III. Data

OMB Control Number: 0648-0212.

Form Number(s): 80-30, 80-140.

Type of Review: Regular submission [revision of a current information collection].

Affected Public: Individuals or households; business or other for-profit organizations.

Estimated Number of Respondents: 2,299.

Estimated Time per Response: 5 minutes for VTRs; 12.5 minutes for the Shellfish Log; 3 minutes standardized response time for the 6 web forms—Soawning Blocks, Monkfish DAS, EFP, Herring, RSA, and Tilefish).

Estimated Total Annual Burden Hours: 10,487.

Estimated Total Annual Cost to Public: $58,653.

Respondent's Obligation: Mandatory.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-28217 Filed 12-21-20; 8:45 am]

BILLING CODE 3510-22-P